FEDERAL DEPOSIT INSURANCE CORPORATION

Sunshine Act Meeting

Pursuant to the provisions of the “Government in the Sunshine Act” (5 U.S.C. 552b), notice is hereby given that the Federal Deposit Insurance Corporation's Board of Directors will meet in open session at 10 a.m. on Wednesday, July 6, 2011, to consider the following matters:

Summary Agenda: No substantive discussion of the following items is anticipated. These matters will be resolved with a single vote unless a member of the Board of Directors requests that an item be moved to the discussion agenda.

Disposition of minutes of previous Board of Directors' Meetings.

Memorandum and resolution re: Final Rule Pursuant to § 742(c) of the Dodd-Frank Wall Street Reform and Consumer Protection Act for the Purpose of Adding 12 CFR part 349 to Regulate FDIC-Supervised Entities Engaged in Retail Forex Transactions.

Memorandum and resolution re: Final Rule on Part 329 & 330 For Interest on Deposits and Deposit Insurance Coverage.

Memorandum and resolution re: Notice of Proposed Rulemaking Regarding Calculating the Maximum Obligation the FDIC May Incur in Liquidating a Covered Financial Company.

Personnel Matters.

Discussion Agenda:

Orderly Liquidation Authority and Priorities and Claims Process under Orderly Liquidation Authority.

Resolution Plans and Credit Exposure Reports.

Special Reporting, Analysis and Contingent Resolution Plans at Certain Insured Depository Institutions.

The meeting will be held in the Board Room on the sixth floor of the FDIC Building located at 550 17th Street, NW., Washington, DC.

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: June 29, 2011.
Federal Deposit Insurance Corporation.
Robert E. Feldman,
Executive Secretary.

[FR Doc. 2011-16829 Filed 6-30-11; 11:15 am]

BILLING CODE 6714-01-P